DEPARTMENT OF AGRICULTURE

National Institute of Food and Agriculture

Nomination Form of Veterinary Shortage Situations for the Veterinary Medicine Loan Repayment Program (VMLRP)

AGENCY: National Institute of Food and Agriculture, USDA.

ACTION: Notice and request for comments.

SUMMARY: The National Institute of Food and Agriculture (NIFA), as part of its compliance with the requirement of Section 3506(c)(2)(A) of the Paperwork Reduction Act of 1995, invites the general public to comment on an information collection for the Veterinary Medicine Loan Repayment Program (VMLRP). This notice initiates a 30-day comment period and prescribes the proposed nomination form for the VMLRP that will be submitted to the Office of Management and Budget (OMB) for renewal. The NIFA may not conduct or sponsor, and the respondent is not required to respond to, a collection of information unless the collection of information displays a valid OMB control number.

DATES: Comments regarding this information collection must be received on or before May 22, 2013 to be assured of having their full effect.

ADDRESSES: You may submit comments by any of the following methods:

Federal eRulemaking Portal: http://www.regulations.gov. Follow the instructions for submitting comments.

Email: vmlrp@nifa.usda.gov. Include the text “VMLRP Shortage Situation Nomination Form” in the subject line of the message.

Fax: (202) 720-0857.

Mail: Paper, disk or CD-ROM submissions should be submitted to National Institute of Food and Agriculture; U.S. Department of Agriculture; STOP 2216; 1400 Independence Avenue SW.; Washington, DC 20250-2216.

Hand Delivery/Courier: National Institute of Food and Agriculture; U.S. Department of Agriculture; Room 4213, Waterfront Centre; 800 9th Street SW.; Washington, DC 20024.

Instructions: All comments received will be posted without change to http://www.regulations.gov, including any personal information provided.

FOR FURTHER INFORMATION CONTACT: Jason Hitchcock; Office of Information Technology; National Institute of Food and Agriculture; U.S. Department of Agriculture; STOP 2216; 1400 Independence Avenue SW.; Washington, DC 20250-2216; Fax: 202-720-0857; Email: jhitchcock@nifa.usda.gov.

SUPPLEMENTARY INFORMATION:

Proposed Collection

Title: VMLRP Veterinarian Shortage Situation Nomination.

OMB Number: 0524-0046.

Type of Request: Intent to request OMB approval to renew an information collection for VMLRP.

Abstract: NIFA established a process to designate veterinarian shortage situations for the VMLRP as authorized under section 1415A of the National Agricultural Research, Extension, and Teaching Policy Act of 1977 (NARETPA). This information collection applies to Subpart A of 7 CFR Part 3431.

Need and Use of the Information: NIFA publishes an annual solicitation in the Federal Register which requests the Animal Health Official in each state and insular area to submit the VMLRP Veterinarian Shortage Situation Nomination Form for each situation or position for which there is a critical shortage of practicing veterinarians. This form includes questions requiring checkboxes or text with a word limitation to minimize the burden for nominators and reviewers. Submitted nomination forms are reviewed and evaluated by a panel according to the criteria identified in the published solicitation. From these evaluations, the VMLRP Program Director may designate the recommended shortage situations and these designations are identified in the Request for Applications (RFA) for VMLRP loan repayment applications from individual veterinarians.

Method of Collection: The information collection (nomination form) is available on the NIFA Web site and nominators are required to make submissions by emailing the completed forms to vmlrp@nifa.usda.gov.

Frequency of Response: Annual nominations.

Type of Respondents: Animal Health Official of each state and insular area.

Estimated Number of Respondents: 57 respondents.

Estimated Number of Responses: 267 respondents (range of 1 to 8 for each nominating entity).

Estimated Total Annual Burden on Respondents: 534 hours.

Request for Comments: Comments submitted in response to this notice will be summarized and/or included in the request for OMB approval of the information collection. All comments will become a matter of public record. Comments are invited on: (a) Whether the proposed collection of information is necessary for the proper performance of the functions of the VMLRP, including whether the information will have practical utility; (b) the accuracy of the public burden estimate (the estimated amount of time needed for individual respondents to provide the requested information), including the validity of the methodology and assumptions used; (c) ways to enhance the quality, utility, and clarity of the information to be collected; and (d) ways to minimize the public burden through the use of appropriate automated, electronic, mechanical, or other technological collection techniques or other forms of information technology.

Obtaining a Copy of the Information Collection: A copy of the information collection and related instructions may be obtained free of charge by contacting Jason Hitchcock by telephone, (202) 720-4343, or by email, jhitchcock@nifa.usda.gov. Information is also available at: http://www.nifa.usda.gov/vmlrp.

Done in Washington, DC, this 16th day of April, 2013.
Catherine Woteki,
Under Secretary for Research, Education, and Economics.

[FR Doc. 2013-09382 Filed 4-19-13; 8:45 am]

BILLING CODE 3410-22-P